DEPARTMENT OF ENERGY

Federal Energy Regulatory Commission

[Docket No. ER01-181-000, et al.]

New York Independent System Operator Inc., et al.; Electric Rate and Corporate Regulation Filings

March 19, 2001.

Take notice that the following filings have been made with the Commission:

1. New York Independent System Operator Inc.

[Docket Nos. ER01-181-000 and ER01-181-001]

Take notice that on March 9, 2001, the New York Independent System Operator, Inc. (NYISO), tendered for filing a Notice of Withdrawal of its October 20, 2000 filing in Docket No. ER01-181-000. NYISO requests withdrawal of all filings in ER01-181-001 as well.

The NYISO requests a waiver of the Commission's notice requirements so that the withdrawal may become effective immediately.

The NYISO has served a copy of this filing upon each person designated on the official service list in Docket No. ER01-181-000.

Comment date: March 30, 2001, in accordance with Standard Paragraph E at the end of this notice.

2. International Transmission Company

[Docket No. ER01-1303-000]

Take notice that on March 14, 2001, International Transmission Company (ITC) tendered for filing Notice of Withdrawal of its unexecuted Interconnection Agreement with Dearborn Industrial Generation, L.L.C. ITC states that the Interconnection Agreement was filed with the Commission on February 22, 2001 in the above-captioned proceeding and that the Agreement had not yet been accepted or otherwise acted upon by the Commission.

Comment date: April 4, 2001, in accordance with Standard Paragraph E at the end of this notice.

3. Virginia Electric and Power Company

[Docket No. ER01-1532-000]

Take notice that on March 14, 2001, Virginia Electric and Power Company. (Dominion Virginia Power or the Company), tendered for filing the following unexecuted Service Agreements with Sempra Energy Trading Corporation (Transmission Customer):

1. Unexecuted Third Amended Service Agreement for Firm Point-to-Point Transmission Service designated Fourth Revised Service Agreement No. 253 under the Company's FERC Electric Tariff, Second Revised Volume No. 5;

2. Unexecuted Third Amended Service Agreement for Non-Firm Point-to-Point Transmission Service designated Fourth Revised Service Agreement No. 49 under the Company's FERC Electric Tariff, Second Revised Volume No. 5.

The foregoing Service Agreements are tendered for filing under the Company's Open Access Transmission Tariff Eligible Purchasers effective June 7, 2000. Under the tendered Service Agreements, Dominion Virginia Power will provide point-to-point service to the Transmission Customer under the rates, terms and conditions of the Open Access Transmission Tariff. The Company requests waiver of the Commission's regulations to permit an effective date of February 12, 2001.

Copies of the filing were served upon Sempra Energy Trading Corporations, the Virginia State Corporation Commission, and the North Carolina Utilities Commission.

Comment date: April 4, 2001, in accordance with Standard Paragraph E at the end of this notice.

4. California Independent System Operator Corporation

[Docket No. ER01-1531-000]

Take notice that on March 14, 2001, the California System Operator Corporation (ISO), tendered filing a Participating Generator Agreement between ISO and Aera Energy LLC (Aera) for acceptance by the Commission.

The ISO states that this filing has been served on Aera and the California Public Utilities Commission.

The ISO is requesting waiver of the 60-day notice requirement to allow the Participating Generator Agreement to be made effective January 19, 2001.

Comment date: April 4, 2001, in accordance with Standard Paragraph E at the end of this notice.

5. PJM Interconnection, L.L.C.

[Docket No. ER01-1533-000]

Take notice that on March 14, 2001, PJM Interconnection L.L.C. (PJM), tendered for filing revisions to Section 6.5 of Schedule 11 of the Amended and Restated Operating of PJM Interconnection, L.L.C. The revisions provide that a market participant's buy bids in the PJM Capacity Credit markets be less than its lowest sell offer price and that a market participant's buy bids that are higher than its lowest sell offer will be rejected. These amendments address a market design flaw that can send distorted signals to market participants.

Copies of this filing were served upon on all members of PJM and each electric utility regulatory commission in the PJM control area.

Comment date: April 4, 2001, in accordance with Standard Paragraph E at the end of this notices.

6. Central Maine Power Company

[Docket No. ER01-1534-000]

Take notice that on March 14, 2001, Central Maine Power Company (CMP), tendered for filing as an initial rate schedule pursuant to Section 35.12 of the Federal Energy Regulatory Commission's (the Commission) Regulations, 18 CFR 35.12, and executed interconnection agreement (the IA) between CMP and Robbins Lumber, Inc. (Robbins Lumber).

The IA is intended to replace the Purchased Power Agreement between the parties, which expired on December 31, 2000. CMP is requesting that the IA become effective February 15, 2001.

Copies of this filing have been served upon the Commission, the Maine Public Utilities Commission, and Robbins Lumber.

Comment date: April 4, 2001, in accordance with Standard Paragraph E at the end of this notices.

7. San Diego Gas & Electric Company

[Docket No. ER01-1339-001]

Take notice that on March 13, 2001, San Diego Gas & Electric Company (SDG&E), tendered for filing an amendment to its February 27, 2001, filing in the above-referenced docket by tendering amended cover sheets for Service Agreements Nos. 1 and 2 to its FERC Electric Tariff, First Revised Volume No. 6. Both agreements relate to the interconnection of a new generation plant to be owned by Otay Mesa Generation Company, LLC (OMG). SDG&E also tendered page 1 to Appendix D of service Agreement No. 1, which was inadvertently omitted from the filing of February 27, 2001.

SDG&E states that copies of the amendment have been served on all parties and on the California Public Utilities Commission.

Comment date: April 3, 2001, in accordance with Standard Paragraph E at the end of this notices.

8. Westar Generating, Inc.

[Docket No. ER01-1305-001]

Take notice that on March 13, 2001, Westar Generating, Inc., tendered for filing corrections to its February 23, 2001, filing in the above referenced docket number.

Comment date: April 3, 2001, in accordance with Standard Paragraph E at the end of this notices.

Standard Paragraph

E. Any person desiring to be heard or to protest such filing should file a motion to intervene or protest with the Federal Energy Regulatory Commission, 888 First Street, NW., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance). Comments, protests, and interventions may be filed electronically via the internet in lieu of paper. See, 18 CFR 385.2001(a)(1)(iii) and the instructions on the Commission's web site at http://www.ferc.fed.us./efi/doorbell.htm.

David P. Boergers,
Secretary.

[FR Doc. 01-7358 Filed 3-23-01; 8:45 am]

BILLING CODE 6717-01-M